SECURITIES AND EXCHANGE COMMISSION

[File No. 1-08610]

Issuer Delisting; Notice of Application of SBC Communications Inc. To Withdraw Its Common Stock, $1.00 Par Value, From Listing and Registration on the Pacific Exchange, Inc.

October 25, 2005.

On September 22, 2005, SBC Communications Inc., a Delaware corporation (“Issuer”), filed an application with the Securities and Exchange Commission (“Commission”), pursuant to Section 12(d) of the Securities Exchange Act of 1934 (“Act”) ¹ and Rule 12d2-2(d) thereunder,² to withdraw its common stock, $1.00 par value (“Security”), from listing and registration on the Pacific Exchange, Inc. (“PCX”).

¹ 15 U.S.C. 78l(d).

² 17 CFR 240.12d2-2(d).

The Board of Directors (“Board”) of the Issuer approved a resolution on July 23, 2003 to, among other things, authorize certain officers of the Issuer to list or delist any of the Issuer's securities on or from any United States or foreign exchange, except to delist the Security from the New York Stock Exchange, Inc. (“NYSE”). The Issuer stated that the following reasons factored into its decision to withdraw the Security from PCX. First, the Issuer stated that the Security only infrequently trades on Archipelago Exchange (“ArcaEx”), the trading facility of PCX. Over the past 12 months, shares of the Security traded on ArcaEx represented 1.2% of the total shares of the Security traded on all national exchanges. Substantially all of the Security is traded on NYSE and in the over-the-counter market. Second, the Issuer intends to continue listing the Security on NYSE. The Security is registered under Section 12(b) of the Act,³ and the Issuer is subject to the periodic and current reporting requirements under Section 13 of the Act.⁴ Third, the continued listing of the Security is costly and unjustified, in the Issuer's opinion, in light of the limited trading volume of the Security.

³ 15 U.S.C. 78l(b).

⁴ 15 U.S.C. 78m.

The Issuer stated in its application that it has complied with applicable rules of PCX by complying with all applicable laws in the State of Delaware, the state in which the Issuer is incorporated, and by providing PCX with the required documents governing the withdrawal of securities from listing and registration on PCX. The Issuer's application relates solely to the withdrawal of the Security from listing on PCX and shall not affect its continued listing on NYSE or the Chicago Stock Exchange, Inc., (“CHX”),⁵ or its obligation to be registered under Section 12(b) of the Act.⁶

⁵ On September 22, 2005, the Issuer filed an application with the Commission to withdraw the Security from listing and registration on CHX. Notice of such application will be published separately.

⁶ 15 U.S.C. 781(b).

Any interested person may, on or before November 15, 2005, comment on the facts bearing upon whether the application has been made in accordance with the rules of PCX, and what terms, if any, should be imposed by the Commission for the protection of investors. All comment letters may be submitted by either of the following methods:

Electronic Comments

• Send an e-mail to rule-comments@sec.gov. Please include the File Number 1-08610 or;

Paper Comments

• Send paper comments in triplicate to Jonathan G. Katz, Secretary, Securities and Exchange Commission, 100 F Street, NE.,Washington, DC 20549-9303.

All submissions should refer to File Number 1-08610. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁷
⁷ 17 CFR 200.30-3(a)(1).
Jonathan G. Katz,
Secretary.

[FR Doc. E5-6019 Filed 10-31-05; 8:45 am]

BILLING CODE 8010-01-P